DEPARTMENT OF AGRICULTURE

Agricultural Marketing Service

[Doc. No. AMS-SC-20-0096, SC-20-327]

Revision of U.S. Standards for Grades of Watermelons

AGENCY: Agricultural Marketing Service, USDA.

ACTION: Notice.

SUMMARY: The Agricultural Marketing Service (AMS) of the Department of Agriculture (USDA) is revising the U.S. Standards for Grades of Watermelons. Changes will provide a common language for trade of watermelons.

DATES: Applicable September 20, 2021.

FOR FURTHER INFORMATION CONTACT: David G. Horner, USDA, Specialty Crops Inspection Division, 100 Riverside Parkway, Suite 101, Fredericksburg, VA 22406; phone (540) 361-1128; fax (540) 361-1199; or email Dave.Horner@usda.gov.

SUPPLEMENTARY INFORMATION: Section 203(c) of the Agricultural Marketing Act of 1946 (7 U.S.C. 1621-1627), as amended, directs, and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The U.S. Standards for Grades of Fruits and Vegetables that no longer appear in the Code of Federal Regulations are maintained by AMS at: http://www.ams.usda.gov/grades-standards. AMS is revising the U.S. Standards for Grades using the procedures that appear in part 36 of Title 7 of the Code of Federal Regulations (7 CFR part 36).

Background

On October 22, 2019, the National Watermelon Association (NWA), a trade association representing growers, retailers, and shippers from 30 U.S. states, Canada, and Central America, petitioned the USDA to revise the watermelon standards and update the official USDA visual aids library. AMS worked closely with the NWA throughout the development of the proposed revisions, soliciting their comments and suggestions about the standards through discussion drafts and presentations. Through this collaboration, AMS also developed and issued four new watermelon visual aids. On November 20, 2020, the NWA approved the proposed revisions, and on March 11, 2021, a Proposed Notice was published in the Federal Register (86 FR 13874). The public comment period closed May 10, 2021, with 45 comments from the industry, 44 of which fully supported the proposed revisions.

One commenter supported the revisions except for the proposed scoring guide for rind worm injury occurring on the ground spot. The commenter felt consumers will not overlook this defect because they understand that this is the ground spot, but was open to compromise. The NWA originally proposed to forgo scoring rind worm injury when affecting the ground spot. The color of the ground spot changes throughout the growing stages, from pale white to creamy yellow at maturity. Rind worm injury is tan in color and more readily blends with the color of the ground spot. AMS determined that rind worm injury on the ground spot is less detracting, but not to the extent that the grade standard would allow an unlimited amount. AMS believes scoring rind worm injury on the ground spot that seriously detracts from the appearance of the melon as damage, but not as serious damage, is a reasonable compromise. Rind worm injury occurring on portions of the melon other than the ground spot will continue to be scored as damage and serious damage.

To show their support of the revisions, commenters generally ended their submissions with the following or a similar statement: “The USDA has the full support of the NWA and its membership (that crosses the country from coast to coast and border to border (and beyond in some cases). Thank you for your support, and your help in this vital effort.”

Therefore, AMS is making the following changes:

• § 51.1973 Tolerances: For defects at shipping point, en route, or at destination for the U.S. No. 1 and U.S. No. 2 grades, AMS will remove the 3% tolerance for Anthracnose at shipping point and remove the 5% tolerance for Anthracnose en route or at destination. The tolerance for decay will be revised to establish a total tolerance of 1% for shipping point and 2% for en route or at destination for Anthracnose and decay.

• § 51.1976 Size: AMS will align weights with current marketing trends by adjusting the average weights to 10 to 34 pounds.

• § 51.1985 Permanent defects and § 51.1986 Condition defects: AMS will remove sunburn as a condition defect and add sunburn as a permanent defect.

• § 51.1978 and § 51.1982: In § 51.1978, AMS will correct the typo in the definition for fairly well formed to read “the perfect type for the variety” instead of “the perfect type of the variety.” In § 51.1982, AMS will add the missing heading identifying the definition: “Seedless watermelons.”

• § 51.1987 Classification of defects: AMS will base the scoring guides for sunburn, hail, rind worm injury, scars (and other similar defects), and transit rubs on a 15-pound melon and will base the scoring guide for hollow heart on any size melon. Lastly, AMS will limit the scoring of rind worm injury on the ground spot by scoring it under the definition of damage when seriously detracting from the appearance of the melon; rind worm injury occurring on the ground spot is not scorable as serious damage.

• AMS will remove all metric measurements from the standards. The revisions align the standards with current marketing trends.

(Authority: 7 U.S.C. 1621-1627.)

Erin Morris,
Associate Administrator, Agricultural Marketing Service.

[FR Doc. 2021-17814 Filed 8-18-21; 8:45 am]

BILLING CODE P